DEPARTMENT OF TRANSPORTATION

Federal Aviation Administration

14 CFR Part 39

[Docket No. FAA-2019-0210; Product Identifier 2019-CE-004-AD; Amendment 39-19608; AD 2019-06-10]

RIN 2120-AA64

Airworthiness Directives; Vulcanair S.p.A. Airplanes

AGENCY: Federal Aviation Administration (FAA), DOT.

ACTION: Final rule; request for comments.

SUMMARY: We are adopting a new airworthiness directive (AD) for Vulcanair S.p.A. Model AP68TP-300 “SPARTACUS” and Model AP68TP-600 “VIATOR” airplanes. This AD results from mandatory continuing airworthiness information (MCAI) issued by the aviation authority of another country to identify and correct an unsafe condition on an aviation product. The MCAI describes the unsafe condition as cracks on wing ribs, which could result in reduced structural integrity of the wing assembly. We are issuing this AD to require actions to address the unsafe condition on these products.

DATES: This AD is effective April 29, 2019.

The Director of the Federal Register approved the incorporation by reference of certain publications listed in the AD as of April 29, 2019.

We must receive comments on this AD by May 24, 2019.

ADDRESSES: You may send comments by any of the following methods:

• Federal eRulemaking Portal: Go to http://www.regulations.gov. Follow the instructions for submitting comments.

• Fax: (202) 493-2251.

• Mail: U.S. Department of Transportation, Docket Operations,

M-30, West Building Ground Floor, Room W12-140, 1200 New Jersey Avenue SE, Washington, DC 20590.

• Hand Delivery: U.S. Department of Transportation, Docket Operations,

M-30, West Building Ground Floor, Room W12-140, 1200 New Jersey Avenue SE, Washington, DC 20590, between 9 a.m. and 5 p.m., Monday through Friday, except Federal holidays.

For service information identified in this AD, contact Vulcanair S.p.A., Via Giovanni Pascoli 80026 Casoria NA Italy; telephone: +39 081 5918111; fax: +39 081 5918172; internet: http://www.vulcanair.com; email: office.oaw@vulcanair.com; or airworthiness@vulcanair.com. You may view this referenced service information at the FAA, Policy and Innovation, 901 Locust, Kansas City, Missouri 64106. For information on the availability of this material at the FAA, call (816) 329-4148. It is also available on the internet at http://www.regulations.gov by searching for locating Docket No. FAA-2019-0210.

Examining the AD Docket

You may examine the AD docket on the internet at http://www.regulations.gov by searching for and locating Docket No. FAA-2019-0210; or in person at Docket Operations between 9 a.m. and 5 p.m., Monday through Friday, except Federal holidays. The AD docket contains this AD, the regulatory evaluation, any comments received, and other information. The street address for Docket Operations (telephone (800) 647-5527) is in the ADDRESSES section. Comments will be available in the AD docket shortly after receipt.

FOR FURTHER INFORMATION CONTACT: Doug Rudolph, Aerospace Engineer, FAA, Small Airplane Standards Branch, 901 Locust, Room 301, Kansas City, Missouri 64106; telephone: (816) 329-4059; fax: (816) 329-4090; email: doug.rudolph@faa.gov.

SUPPLEMENTARY INFORMATION:

Discussion

The European Aviation Safety Agency (EASA), which is the Technical Agent for the Member States of the European Community, has issued AD No. 2018-0269, dated December 11, 2018 (referred to after this as “the MCAI”), to correct an unsafe condition for the specified products. The MCAI states:

An occurrence was reported of finding cracks in the affected area [wing ribs #3 and #4] on an AP68TP-600 “Viator” aeroplane during a scheduled inspection task. Prompted by post-analysis of the occurrence, Vulcanair determined that some aeroplanes were reinforced in the affected area, through a repair developed by Partenavia. Vulcanair also determined that this repair would have prevented the crack initiation. It was finally determined that AP68TP-300 “Spartacus” aeroplanes are also affected by this condition.

This condition, if not detected and corrected, could affect the structural integrity of the wing assembly of the aeroplane.

To address this potential unsafe condition, Vulcanair issued the [service bulletin] SB, embodying the repair designed by Partenavia, providing instructions for one-time inspection of [left-hand/right-hand] LH/RH wing ribs #3 and #4, and for modification (reinforcement or embodiment of appropriate repair), as necessary.

For the reasons described above, this [EASA] AD requires a one-time inspection of the affected area, and, depending on findings, accomplishment of the applicable modification (repair or reinforcement of the affected area) of the aeroplane.

You may examine the MCAI on the internet at http://www.regulations.gov by searching for and locating Docket No. FAA-2019-0210.

Related Service Information Under 1 CFR Part 51

We reviewed Vulcanair Aircraft Service Bulletin No. TP-43, First Issue, dated October 15, 2018. The service information contains procedures for inspecting the left hand (LH) and right hand (RH) wing ribs number 3 and number 4 and includes a table indicating the necessary actions for installation of reinforcements and repair of cracks. We also reviewed Vulcanair Aircraft Service Instruction No. 106, First Issue, dated October 15, 2018, which contains instructions for installing reinforcement Kit SI106 on the LH and RH wing rib number 3; and Vulcanair Aircraft Service Instruction No. 107, First Issue, dated October 15, 2018, which contains instructions for installing reinforcement Kit SI107 on the LH and RH wing rib number 4. This service information is reasonably available because the interested parties have access to it through their normal course of business or by the means identified in the ADDRESSES section.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because cracks in the wing ribs could result in reduced strength and stiffness of the wing and lead to failure of the wing with consequent inflight breakup of the airplane. Cracks in the ribs could also initiate cracking in other adjacent structures, which would accelerate the reduction in structural strength. Therefore, we find good cause that notice and opportunity for prior public comment are impracticable. In addition, for the reasons stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2019-0210; Product Identifier 2019-CE-004-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 2 products of U.S. registry. We also estimate that it would take about 1 work-hour per product to comply with the inspection requirements of this AD. The average labor rate is $85 per work-hour.

Based on these figures, we estimate the cost of the AD on U.S. operators to be $170, or $85 per product.

In addition, we estimate that any necessary installation of the reinforcement modification would take about 8 work-hours for rib number 3 on each wing; 8 work-hours for rib number 4 on each wing; and 12 work-hours for both ribs numbers 3 and 4 on each wing.

The following are a parts cost estimates per side:

1. Kit SI106 (if the required corrective action is the installation of the reinforcement to LH or RH wing rib #3) $240.

2. Kit SI107/A (if the required corrective action is the installation of upper and rear reinforcements to LH or RH wing rib number 4 due to no reinforcements existing) $469.

3. Kit SI107/B (if the required corrective action is the installation of rear reinforcements to LH or RH wing rib number 4 due to only the upper reinforcement existing) $240.

4. Kit SI107/C (if the required corrective action is the installation of upper reinforcement to LH or RH wing rib number 4 due to only the rear reinforcement existing) $240.

Since installation of the reinforcement modification kits can only be done on airplanes where cracks or corrosion was not found during the required inspection, we have no way of knowing how many airplanes may require the installation of the reinforcement modification kits.

Also, damage from cracks or corrosion found during the inspection may vary from airplane to airplane and the cost to repair the damage will vary from airplane to airplane. Therefore, we have no way of knowing how many airplanes may require repair or the cost of that repair.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-06-10 Vulcanair S.p.A.: Amendment 39-19608; Docket No. FAA-2019-0210; Product Identifier 2019-CE-004-AD.

(a) Effective Date

This AD becomes effective April 29, 2019.

(b) Affected ADs

None.

(c) Applicability

This AD applies to Vulcanair S.p.A. Model AP68TP-300 “SPARTACUS” airplanes, serial numbers (S/N) 8001 through 8006, 8008, 8009, and 8011; and Model AP68TP-600 “VIATOR” airplanes, S/N 9001 through 9005, and 9010; certificated in any category.

(d) Subject

Air Transport Association of America (ATA) Code 57: Wings.

(e) Reason

This AD was prompted by mandatory continuing airworthiness information (MCAI) issued by the aviation authority of another country to identify and correct an unsafe condition on an aviation product. The MCAI describes the unsafe condition as cracks on the wing ribs. We are issuing this AD to detect, correct, and prevent cracks on the wing ribs, which could result in reduced structural integrity of the wing assembly and failure of the wing.

(f) Actions and Compliance

Unless already done, do the following actions in paragraphs (f)(1) through (3) within 3 months after April 29, 2019 (the effective date of this AD) or within 50 hours time-in-service after April 29, 2019 (the effective date of this AD), whichever occurs first.

(1) Inspect the left hand (LH) and right hand (RH) sides of wing rib number 3 and wing rib number 4 for missing reinforcements, cracks, and corrosion by following the Work Procedure, paragraphs 1 through 6, of Vulcanair Aircraft Service Bulletin No. TP-43, First Issue, dated October 15, 2018.

(2) If there is no corrosion and no cracks and if a reinforcement is missing, before further flight, install the reinforcement in accordance with the Work Procedure, paragraphs 1 through 19, of Vulcanair Aircraft Service Instruction No. 106, First Issue, dated October 15, 2018, for wing rib number 3 or the Work Procedure, sections 2.2 and 2.3, of Vulcanair Aircraft Service Instruction No. 107, First Issue, dated October 15, 2018, for wing rib number 4, as applicable to the missing reinforcement.

(3) If there is any corrosion or a crack, before further flight, repair the wing spar in accordance with a method approved by the Manager, Small Airplane Standards Branch, FAA, at the address specified in paragraph (g) of this AD. For a repair method to be approved by the Manager, Small Airplane Standards Branch, as required by this paragraph, the Manager's approval letter must specifically refer to this AD.

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Doug Rudolph, Aerospace Engineer, FAA, Small Airplane Standards Branch, 901 Locust, Room 301, Kansas City, Missouri 64106; telephone: (816) 329-4059; fax: (816) 329-4090; email:. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must instead be accomplished using a method approved by the Manager, Small Airplane Standards Branch, FAA; or the European Aviation Safety Agency (EASA).

(h) Related Information

Refer to MCAI EASA AD No. 2018-0269, dated December 11, 2018. You may examine the MCAI on the internet at http://www.regulations.gov by searching for and locating Docket No. FAA-2019-0210.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Vulcanair Aircraft Service Bulletin No. TP-43, First Issue, dated October 15, 2018.

(ii) Vulcanair Aircraft Service Instruction No. 106, First Issue, dated October 15, 2018.

(iii) Vulcanair Aircraft Service Instruction No. 107, First Issue, dated October 15, 2018.

(3) For Vulcanair service information identified in this AD, contact Vulcanair S.p.A., Via Giovanni Pascoli 80026 Casoria NA Italy; telephone: +39 081 5918111; fax: +39 081 5918172; internet: http://www.vulcanair.com; email: office.oaw@vulcanair.com; or airworthiness@vulcanair.com.

(4) You may view this service information at the FAA, Policy and Innovation, 901 Locust, Kansas City, Missouri 64106. For information on the availability of this material at the FAA, call (816) 329-4148. It is also available on the internet at http://www.regulations.gov by searching for locating Docket No. FAA-2019-02110.

(5) You may view this service information that is incorporated by reference at the National Archives and Records Administration (NARA). For information on the availability of this material at NARA, call 202-741-6030, or go to: http://www.archives.gov/federal-register/cfr/ibr-locations.html.

Issued in Kansas City, Missouri, on March 25, 2019.
Melvin J. Johnson,
Aircraft Certification Service, Deputy Director, Policy and Innovation Division, AIR-601.

[FR Doc. 2019-06909 Filed 4-8-19; 8:45 am]

BILLING CODE 4910-13-P